ENVIRONMENTAL PROTECTION AGENCY

[CA-06-01; FRL-8265-9]

Notice of Prevention of Significant Deterioration Final Determination for Knauf Insulation, GmbH, Shasta Lake, CA

AGENCY: Environmental Protection Agency (“EPA”).

ACTION: Notice of final action.

SUMMARY: This notice announces that on November 14, 2006, the Environmental Appeals Board (“EAB”) of EPA denied review of all petitions for review of a Prevention of Significant Deterioration (“PSD”) permit (“Permit”) that EPA Region 9 issued to Knauf Insulation, GmbH (“Knauf”). The Permit was issued pursuant to the PSD regulations under 40 CFR 52.21.

DATES: The effective date of the EAB's decision, and the Permit, is November 14, 2006. Pursuant to Section 307(b)(1) of the Clean Air Act (“CAA”), 42 U.S.C. 7607(b)(1), judicial review of this permit decision, to the extent it is available, may be sought by filing a petition for review in the United States Court of Appeals for the Ninth Circuit within 60 days of January 5, 2007.

ADDRESSES: The relevant documents for the Permit are available for public inspection during normal business hours at the following address: EPA Region 9, 75 Hawthorne Street, San Francisco, California 94105. To arrange viewing of these documents, contact Shaheerah Kelly at (415) 947-4156 or kelly.shaheerah@epa.gov. The Permit is also available at http://www.epa.gov/region09/air/permit/knauf.

FOR FURTHER INFORMATION CONTACT: Shaheerah Kelly, EPA, Region 9, Air Division (AIR-3), 75 Hawthorne Street, San Francisco, CA 94105.

SUPPLEMENTARY INFORMATION: Throughout this document, “we,” “us” and “our” refer to EPA.

I. What Action Is EPA Taking?

II. What Is the Background Information?

III. What Did the EAB Decide?

I. What Action Is EPA Taking?

We are notifying the public of a final decision by the EAB on the Permit issued by EPA Region 9 pursuant to the PSD regulations found at 40 CFR 52.21.

II. What Is the Background Information?

Knauf is an existing fiberglass manufacturing facility located in Shasta Lake, Shasta County, California. The Shasta County Air Quality Management District (“AQMD”) issued Knauf's PSD permit on March 22, 2000 authorizing construction of the facility. The facility has been in operation since 2002.

In March 2003, EPA rescinded the PSD delegation for many California air pollution permitting agencies, including the Shasta County AQMD which is the air pollution permitting agency in Shasta County. Based on this action and since the Shasta County AQMD did not subsequently request PSD delegation, EPA is currently the PSD permitting authority within Shasta County, California.

Knauf submitted a PSD application to EPA Region 9 to revise the facility's Permit. After consideration of the PSD application, EPA Region 9 issued the draft revised Permit on January 31, 2006, for public review and comment. On May 11, 2006, after providing an opportunity for public comment and a public hearing, EPA issued the revised Permit. The revised Permit changed Knauf's previous Permit by (1) establishing nitrogen oxide (“NOX”) emission limitations of 16.5 pounds per hour (“lb/hr”) and 1.76 pounds per ton of glass pulled (“lb/ton”) at the manufacturing line main stack, and (2) changing particulate matter less than 10 microns in diameter (“PM10”) emission limitations to 28.4 lb/hr and 3.03 lb/ton of at the manufacturing line main stack, and 0.67 lb/hr and 0.07 lb/ton at the glass melting furnace stack. The revised Permit also included other changes related to the changes in the emission limitations.

Subsequent to the issuance of the revised Permit, the EAB received six petitions requesting review of the revised Permit. The EAB denied review of all six petitions.

III. What Did the EAB Decide?

Four of the petitions raised public health concerns and general concerns about the Knauf facility which were already addressed in EPA Region 9's response to comments for the revised Permit. The EAB denied review of these petitions because they failed to demonstrate why EPA Region 9's response was clearly erroneous or otherwise warranted review. For one of these petitions, which asserted that the original permit issued in 2000 violated the CAA by allowing the facility to be built, the EAB ruled that the assertion did not relate to any condition of the revised Permit issued by EPA Region 9 and was, therefore, beyond the scope of the EAB proceeding.

One petition related to two documents filed with the EAB titled “Notice of Appeal” and “Request for Time Extension.” The Notice of Appeal asked for permission to file an appeal with the EAB, but did not raise any specific objections to the revised Permit, and the Extension Request stated only that the petitioners were waiting to receive certain information from EPA Region 9. The EAB denied review because the petitioners did not articulate any specific objections to the revised Permit and did not establish good cause for extending the time to file an appeal.

One petition objected to the location of the Knauf facility and asked for reconsideration of the permitting decision. The EAB denied review since the petitioner did not file the petition in a timely manner and did not participate in the permitting process during the public comment period for the draft revised Permit.

Readers interested in more detail on the appeal issues raised by the petitioners and the reasons for the EAB's denial of review may download EAB's Order Denying Review from the EAB Web site at http://www.epa.gov/eab.

Pursuant to 40 CFR 124.19(f)(1), for purposes of judicial review, final agency action occurs when a final PSD permit is issued and agency review procedures are exhausted. This notice is being published pursuant to 40 CFR 124.19(f)(2), which requires notice of any final agency action regarding a PSD permit to be published in the Federal Register. This notice constitutes notice of the final agency action denying review of the revised Permit and, consequently, notice of the EPA Region 9's issuance of the Permit (PSD Permit No. Permit No. NSR 4-4-4, SAC 03-01) to Knauf. If available, judicial review of these determinations under section 307(b)(1) of the CAA may be sought only by the filing of a petition for review in the United States Court of Appeals for the Ninth Circuit, within 60 days from the date on which this notice is published in the Federal Register. Under section 307(b)(2) of the CAA, this determination shall not be subject to later judicial review in any civil or criminal proceedings for enforcement.

Dated: December 20, 2006.
Kerry J. Drake,
Acting Director, Air Division, Region 9.

[FR Doc. E6-22561 Filed 1-4-07; 8:45 am]

BILLING CODE 6560-50-P